ENVIRONMENTAL PROTECTION AGENCY

[FRL-6947-5]

Copper Basin Mining District Superfund Site; Notice of Proposed Settlement

AGENCY: Environmental Protection Agency (EPA).

ACTION: Notice of proposed agreement.

SUMMARY: The United States Environmental Protection Agency is proposing to enter into an agreement with OXY USA, Inc. and Glenn Springs Holdings, Inc. pursuant to section 122 of the Comprehensive Environmental Response, Compensation, and Liability Act of 1980, as amended, regarding the Copper Basin Mining District Superfund Site located in Polk County, Tennessee and Fannin County, Georgia. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-CPSB), Sam Nunn Atlanta Federal Center, 61 Forsyth Street, S.W., Atlanta, Georgia 30303, (404) 562-8887.

Written comments may be submitted to Ms. Batchelor within thirty (30) calendar days of the date of this publication.

Dated: February 6, 2001.
Franklin E. Hill,
Chief, CERCLA Program Services Branch, Waste Management Division.

[FR Doc. 01-4871 Filed 2-27-01; 8:45 am]

BILLING CODE 6560-50-P